DEPARTMENT OF THE INTERIOR

Bureau of Land Management

[LLUT01000-09-L51010000-ER0000-24-1A00]

Notice of Availability of the Final Environmental Impact Statement for the Mona to Oquirrh Transmission Corridor Project, Utah, and the Proposed Pony Express Resource Management Plan Amendment

AGENCY: Bureau of Land Management, Interior.

ACTION: Notice of Availability.

SUMMARY: In accordance with the National Environmental Policy Act of 1969, as amended, and the Federal Land Policy and Management Act (FLPMA) of 1976, as amended, the Bureau of Land Management (BLM) has prepared a Final Environmental Impact Statement (EIS)/Proposed Resource Management Plan Amendment (RMPA) for the Mona to Oquirrh Transmission Corridor Project and by this notice is announcing its availability.

DATES: The BLM planning regulations at 43 CFR 1610.5-2 state that any person who meets the conditions described there may protest the BLM's Proposed RMPA. Such protest must be filed within 30 days of the date that the Environmental Protection Agency publishes its notice of availability of this Final EIS in the Federal Register.

ADDRESSES: Copies of the Final EIS/Proposed RMPA for the Mona to Oquirrh Transmission Corridor Project have been sent to affected Federal, State, and local government agencies and to other stakeholders. Copies are available for public inspection at the BLM's West Desert District Salt Lake Field Office, 2370 South 2300 West, Salt Lake City, Utah 84119 and the Fillmore Field Office, 35 East 500 North, Fillmore, Utah 84631. Interested persons may also review the Final EIS/Proposed RMPA at the following Web site: http://www.blm.gov/ut/st/en/fo/salt_lake/planning/mona_to_oquirrh_transmission.html. All protests must be in writing and mailed to one of the following addresses:

Regular Mail: BLM Director (210), Attention: Brenda Williams, P.O. Box 66538, Washington, DC 20035.

Overnight Mail: BLM Director (210), Attention: Brenda Williams, 1620 L Street, NW., Suite 1075, Washington, DC 20036.

FOR FURTHER INFORMATION CONTACT: For further information contact Cindy Ledbetter, Environmental Specialist, telephone (801) 977-4300; address 2370 South 2300 West, Salt Lake City, Utah 84119; e-mail UT_M2OTL_EIS@blm.gov.

SUPPLEMENTARY INFORMATION: Rocky Mountain Power (a division of PacifiCorp) proposes to construct, operate, and maintain a 69-mile long single-circuit 500 kilovolt (kV) transmission line from the existing Mona Substation near Mona, Utah, to a proposed Mona Annex Substation. The 500kV line would then continue on to the proposed Limber Substation to be located in Tooele Valley, Utah. Two proposed double-circuit 345kV lines would connect the proposed Limber Substation to the Salt Lake Valley. One line would extend 31 miles to the existing Oquirrh Substation in West Jordan, Utah, and the second line would extend 45 miles to the existing Terminal Substation in Salt Lake City, Utah. Portions of the proposed project would cross lands administered by the BLM West Desert District's Salt Lake Field Office and Fillmore Field Office. In order to grant a major right-of-way, an amendment to the Pony Express Resource Management Plan (RMP) would be required in accordance with FLPMA. Comments on the Draft RMPA/Draft EIS, received from the public and internal BLM review, were considered and incorporated as appropriate into the proposed plan amendment.

Instructions for filing a protest with the Director of the BLM regarding the Proposed RMPA may be found in the “Dear Reader Letter” of the Final EIS/Proposed RMPA and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 912-7212, and e-mails to Brenda_Hudgens-Williams@blm.gov.

All protests, including the follow-up letter to e-mails or faxes, must be in writing and mailed to the appropriate address, as set forth in the ADDRESSES section above.

Before including your phone number, e-mail address, or other personal identifying information in your protest, you should be aware that your entire protest, including your personal identifying information, may be made publicly available at any time. While you can ask us in your protest to withhold your personal identifying information from public review, we cannot guarantee that we will be able to do so.

Approved:
Selma Sierra,
State Director.

Authority: 40 CFR 1506.6 and 1506.10, 43 CFR 1610.2 and 1610.5-2.

[FR Doc. 2010-9353 Filed 4-22-10; 8:45 am]

BILLING CODE 4310-DQ-P